DEPARTMENT OF HEALTH AND HUMAN SERVICES

National Institutes of Health

Report on Carcinogens Evaluation of Pentachlorophenol; Request for Nominations of Scientific Experts

SUMMARY: The National Toxicology Program (NTP), Division of the National Toxicology Program (DNTP), National Institute of Environmental Health Sciences (NIEHS), is initiating development of the Report on Carcinogens (RoC) monograph on pentachlorophenol. To inform development of that monograph, the Office of the RoC (ORoC) will hold a web-based meeting to obtain information related to evaluating human epidemiologic studies on exposure to pentachlorophenol and cancer risk and invites the nomination of speakers. Nominees should have expertise in cancer epidemiology and knowledge of studies related to exposure to pentachlorophenol. Self-nomination is permitted.

DATES: The deadline for nominations is December 3, 2012.

ADDRESSES: Nominations should be submitted to Dr. Ruth Lunn, Director, ORoC, DNTP, NIEHS, P.O. Box 12233, MD K2-14, Research Triangle Park, NC 27709; telephone (919) 316-4637; FAX: (301) 480-2970; lunn@niehs.nih.gov. Courier address: NIEHS, Room 2138, 530 Davis Drive, Morrisville, NC 27560.

FOR FURTHER INFORMATION CONTACT: Dr. Ruth Lunn, Director, ORoC, DNTP, NIEHS, P.O. Box 12233, MD K2-14, Research Triangle Park, NC 27709; telephone (919) 316-4637; FAX: (301) 480-2970; lunn@niehs.nih.gov. Courier address: NIEHS, Room 2138, 530 Davis Drive, Morrisville, NC 27560.

SUPPLEMENTARY INFORMATION: Background: Pentachlorophenol (including its sodium salts) is a chlorinated aromatic compound that is used primarily as a wood preservative in the United States. It was selected for evaluation for the RoC based on widespread past use and current exposure in the United States and an adequate database of cancer studies.

The final concept document for pentachlorophenol, which outlines the rationale for its selection for RoC evaluation and the proposed approach for development of the cancer evaluation component of the RoC monograph on pentachlorophenol, is available on the RoC Web site (http://ntp.niehs.nih.gov/go/37897). The NTP Board of Scientific Counselors provided comments on the draft concept at its meeting on June 21, 2012 (minutes available at http://ntp.niehs.nih.gov/go/9741).

Important to the evaluation of the potential carcinogenicity of pentachlorophenol is the assessment of evidence from human cancer studies. From an initial search of the peer-reviewed literature, the available human epidemiologic studies include: (1) Several case-control studies (primarily of hematopoietic cancer) reporting risk estimates for job titles associated with pentachlorophenol exposure or exposure to chlorophenols with limited information on exposure specific for pentachlorophenol, (2) case-control studies reporting risk estimates specific for pentachlorophenol, and (3) cohort studies of pentachlorophenol production workers or users. A key issue in evaluating the evidence in humans is the potential for confounding from co-exposures, especially contaminants of pentachlorophenol formed during its production. Major cancers of interest are multiple myeloma, lymphoma, and soft-tissue sarcoma.

Meeting Information: ORoC will hold a web-based meeting to obtain information related to evaluating human epidemiologic studies on exposure to pentachlorophenol and cancer risk, especially for lymphoma and multiple myeloma. In planning for this event, ORoC is inviting the nomination of speakers who would make presentations that focus on the methods used in human epidemiologic studies of pentachlorophenol to evaluate potential confounding from occupational co-exposures, other types of information that may be important in evaluating potential confounding, and how exposure to confounders may affect each study's findings. Once plans for the web-based meeting are finalized, additional information including agenda, speakers, logistics, and registration, will be announced in a subsequent Federal Register notice.

Request for Nominations of Speakers: ORoC invites the nomination of speakers for the web-based meeting with expertise in epidemiology and knowledge of cancer studies on exposure to pentachlorophenol. Self-nomination is permitted. Each nomination should include (1) Contact information for the nominee [name, affiliation (if any), address, telephone, fax, and email], (2) a short description of the individual's expertise relative to the review of human epidemiologic studies of exposure to pentachlorophenol and cancer risk, (3) curriculum vitae, and (4) an abstract describing what would be covered in the talk to address the presentations' focus as noted above in “Meeting Information.” Persons submitting nominations should provide their name, contact information, affiliation, and sponsoring organization (if any). Nominations should be submitted to Dr. Lunn (see ADDRESSES); their receipt will be acknowledged by email. The deadline for nominations is December 3, 2012. Persons selected as speakers will be notified by email at least 30 days prior to the meeting.

Background Information on the RoC: The RoC is a congressionally mandated document that identifies and discusses substances that may pose a hazard to human health by virtue of their carcinogenicity. Substances are listed in the report as either known or reasonably anticipated human carcinogens. The NTP prepares the RoC on behalf of the Secretary of Health and Human Services following a formal, multi-step process for review and evaluation of selected substances (http://ntp.niehs.nih.gov/go/rocprocess). Information about the RoC is available on the RoC Web site (http://ntp.niehs.nih.gov/go/roc) or by contacting Dr. Lunn (see ADDRESSES).

Dated: October 11, 2012.
John R. Bucher,
Associate Director, National Toxicology Program.

[FR Doc. 2012-25472 Filed 10-16-12; 8:45 am]

BILLING CODE 4140-01-P